DEPARTMENT OF THE INTERIOR

Bureau of Land Management

[CA-939-04-1610-00]

Notice of Availability of the California Coastal National Monument Draft Resource Management Plan and Draft Environmental Impact Statement

AGENCY: Bureau of Land Management, Interior.

ACTION: Notice of availability.

SUMMARY: In accordance with the National Environmental Policy Act of 1969, and under the authority of the Federal Land Policy and Management Act of 1976, the Bureau of Land Management (BLM) has prepared a Draft Resource Management Plan (RMP)/Draft Environmental Impact Statement (EIS) for the California Coastal National Monument (CCNM) that is now available for public review.

DATES: Written comments on the Draft RMP/Draft EIS will be accepted for 90 days following the Environmental Protection Agency's publication of the Notice of Availability for this Draft RMP/Draft EIS in the Federal Register. Future public meetings and any other public involvement activities will be announced at least 15 days in advance through public notices, media news releases, mailings, and/or the project Web site at http://www.ca.blm.gov/pa/coastal_monument/.

ADDRESSES: Written comments should be sent to Rick Hanks, California Coastal National Monument, 299 Foam Street, Monterey, CA 93940 or by Fax at (831) 647-4244, or e-mail at cacnm@ca.blm.gov.

FOR FURTHER INFORMATION CONTACT: For further information and/or to have your name added to our mailing list, contact Rick Hanks, California Coastal National Monument, 299 Foam Street, Monterey CA 93940 or telephone (831) 372-6115 or e-mail at cacnm@ca.blm.gov.

SUPPLEMENTARY INFORMATION: The CCNM was established by Presidential Proclamation on January 11, 2000, under the discretionary authority given to the President of the United States by Section 2 of the Antiquities Act of 1906 (34 Stat. 225, 16 U.S.C. 431). The purpose of the CCNM, as stated in the Presidential Proclamation, is to protect “all unappropriated or unreserved lands and interest in the lands owned or controlled by the United States in the form of islands, rocks, exposed reefs, and pinnacles above mean high tide within 12 nautical miles of the shoreline of the State of California.” The Presidential Proclamation tasked the Secretary of the Interior, through the BLM with the ultimate responsibility for ensuring protection and providing long-term management of the CCNM.

The CCNM consists of more than 20,000 rocks and small islands situated within an offshore area of more than 14,600 square nautical miles that stretches the entire length of the 1,100 miles of the California coastline. The CCNM, however, totals no more than 1,000 acres of exposed surface area. The CCNM does not include Santa Catalina and the other Channel Islands (although it does include some of the rocks associated with the Channel Islands), the Farallon Islands, the islands of San Francisco Bay, or rocks and islands under the jurisdiction of the military, National Park Service, Fish and Wildlife Service, Forest Service, or other landowners. The CCNM is within the jurisdiction of five BLM California field offices and adjoins or borders on 10 California State Park district offices, 11 California Department of Fish and Game's Marine Division field offices, six National Park Service units, a variety of military properties (including Vandenberg Air Force Base), 15 California coastal counties, and dozens of municipalities, as well as being above four National Marine Sanctuaries and the subsurface responsibilities of the USDI Minerals Management Service and the California State Lands Commission.

During the initial scoping process for the plan, eight public meetings were held in towns and cities along the California coast (i.e., Trinidad, Elk, Bodega Bay, Monterey, Santa Barbara, Laguna Beach, and San Francisco) in order to solicit input for use in the development of the draft plan. Based on the direction provided in the Presidential Proclamation, comments received during the scoping process, and input from the multi-agency/organization interdisciplinary team overseeing the development of the CCNM planning effort, five issue areas were identified for analysis in the Draft RMP/Draft EIS. The Draft RMP/Draft EIS examines four alternatives that respond to these issues. The issues include the following: (1) How will biological resources be protected? (2) How will cultural, geologic, and visual resources be protected? (3) How will BLM coordinate its CCNM planning and management activities to be consistent with the numerous jurisdictions that have existing plans and policies associated with the Coastal Zone? (4) How will people's activities and uses along the coast be affected by management of the CCNM? and (5) What programs, facilities, infrastructure, and partnerships are needed to provide the public with interpretive and educational material regarding the values and significance of the CCNM? Alternative A is the No Action Alternative (i.e., continuation of existing management condition). Alternative B, C, and D present a range of management scenerios with varying amounts of natural resource protection and focus and differing levels of recreation/interpretation actions and facilities. Alternative B is the Preferred Alternative. Alternatives C and D are variations in management approaches from Alternative B.

Please note that comments, including names and street addresses of respondents, are available for public review and/or release under the Freedom of Information Act (FOIA). Individual respondents may request confidentiality. Respondents who wish to withhold names and/or street address from public review or from disclosure under FOIA, must state this prominently at the beginning of the written comment. Such requests will be honored to the extent allowed by law. BLM will not consider anonymous comments. All submissions from organizations or businesses, and from individuals identifying themselves as representatives or officials or organizations or businesses, will be made available for public inspection in their entirety.

Copies of the Draft RMP/Draft EIS have been sent to affected Federal, tribal, State, and local government agencies, and to interested publics and are available at the California Coastal National Monument headquarters at 299 Foam Street, Monterey, CA. In addition, copies of the Draft RMP/Draft EIS may be viewed at the following BLM offices: California State Office, Information Access Center, 2800 Cottage Way, Sacramento, CA; Arcata Field Office, 1695 Heindon Rd., Arcata, CA; Ukiah Field Office, 2550 North State St., Ukiah, CA; Hollister Field Office, 20 Hamilton Court, Hollister, CA; Bakersfield Field Office, 3801 Pegasus Drive, Bakersfield, CA; Palm Springs/South Coast Field Office, 690 W. Garnet Ave., North Palm Springs, CA; and California Desert District Office, 22835 Calle San Juan de Los Lagos, Moreno Valley, CA. Information regarding additonal viewing opportuntities may be announced through public notices, media news releases, mailings, and/or the project Web site at http://www.ca.blm.gov/pa/coastal_monument/. The Draft RMP/Draft EIS and associated documents may be viewed and downloaded in PDF format at the CCNM Web site at cacnm@ca.blm.gov.

Dated: March 25, 2004.
J. Anthony Danna,
Deputy State Director, Natural Resources.

[FR Doc. 04-20917 Filed 9-16-04; 8:45 am]

BILLING CODE 4310-40-P